GOVERNMENT ACCOUNTABILITY OFFICE

Medicaid and CHIP Payment and Access Commission Nominations

AGENCY: Government Accountability Office (GAO).

ACTION: Notice on letters of nomination.

SUMMARY: The Children's Health Insurance Program Reauthorization Act of 2009 (CHIPRA) established the Medicaid and CHIP Payment and Access Commission (MACPAC) to review Medicaid and CHIP access and payment policies and to advise Congress on issues affecting Medicaid and CHIP. CH1PRA gave the Comptroller General of the United States responsibility for appointing MACPAC's members. For appointments to MACPAC that will be effective January 1, 2015, I am announcing the following: Letters of nomination and resumes will be accepted through September 5th, 2014 to ensure adequate opportunity for review and consideration of nominees prior to appointment of new members.

ADDRESSES: Email: MACPACappointments@gao.gov.

Mail: U.S. GAO, Attn: MACPAC Appointments, 441 G Street NW., Washington, DC 20548.

FOR FURTHER INFORMATION: GAO: Office of Public Affairs, (202) 512-4800.

Public Law 111-3, Section 506; 42 U.S.C. § 1396.

Gene L. Dodaro,
Comptroller General of the United States.

[FR Doc. 2014-17124 Filed 7-21-14; 8:45 am]

BILLING CODE 1610-02-P